INTERNATIONAL TRADE COMMISSION

[Investigation No. 332-475]

Probable Effect of Proposed Definitions for Certain Baby Socks

AGENCY: United States International Trade Commission.

ACTION: Institution of investigation and request for public comments.

DATES: Effective Date: June 5, 2006.

SUMMARY: Following receipt of a request from the United States Trade Representative (USTR) on May 26, 2006, the Commission instituted investigation No. 332-475, Probable Effect of Proposed Definitions for Certain Baby Socks, under section 332(g) of the Tariff Act of 1930 (19 U.S.C. 1332(g)).

FOR FURTHER INFORMATION CONTACT: Project Leader, Mrs. Jackie Jones, Office of Industries (202-205-3466; jackie.jones@usitc.gov). For information on legal aspects, contact William Gearhart of the Office of the General Counsel (202-205-3091; william.gearhart@usitc.gov). The media should contact Margaret O'Laughlin, Office of External Relations (202-205-1819; margaret.olaughlin@usitc.gov).

Background: In his letter, the USTR requested that the Commission provide advice as to the probable effect of each of two proposed definitions for babies' booties on U.S. imports from China, on total U.S. imports, and on domestic producers of the affected articles. In an attachment to the request letter, the USTR provided two proposed definitions for babies' booties classifiable in heading 6111 of the Harmonized Tariff Schedule of the United States (HTS), as follows:

Proposed Definition Number One

For purposes of heading 6111, babies' booties are knitted or crocheted foot coverings without an applied sole glued, sewn or otherwise affixed to the upper. These articles have bulky embellishments, such as rattles or other attachments, which preclude wearing inside of footwear.

Proposed Definition Number Two

For purposes of heading 6111, babies' booties are knitted or crocheted foot coverings without an applied sole glued, sewn or otherwise affixed to the uppers. These articles have embellishments, such as rattles, lace, appliqués, skid-proofing or kick-proofing properties.

As requested, the Commission will submit its advice to the USTR at the earliest possible date, but not later than 3 months following receipt of the letter, or by August 25, 2006. Also as requested, the Commission will issue, as soon as possible thereafter, a public version of the report with any business confidential information deleted.

In the request letter, the USTR referred to the Memorandum of Understanding Between the Governments of the United States of America and the People's Republic of China Concerning Trade in Textile and Apparel Products (“MOU”), which entered into force on January 1, 2006, and established annual quantitative restraints on U.S. imports of certain textile and apparel products originating in China through 2008. In the request letter, the USTR stated that one such quantitative restraint covers category 332/432/632 (hosiery of cotton wool, and manmade fibers), and includes a sublimit on category 332/432/632—part. According to the request letter and the MOU, the quantitative restraint and sublimit on hosiery from China also cover the babies' socks and booties of heading 6111 (category 239).

Written Submissions: No public hearing is planned. However, interested parties are invited to submit written statements concerning the matters to be addressed by the Commission in its report on this investigation. Submissions should be addressed to the Secretary, United States International Trade Commission, 500 E Street SW., Washington, DC 20436. To be assured of consideration by the Commission, written statements related to the Commission's report should be submitted to the Commission at the earliest practical date and should be received no later than 5:15 p.m., July 11, 2006.

All written submissions must conform with the provisions of section 201.8 of the Commission's Rules of Practice and Procedure (19 CFR 201.8). Section 201.8 of the rules requires that a signed original (or copy designated as an original) and fourteen (14) copies of each document be filed. In the event that confidential treatment of the document is requested, at least four (4) additional copies must be filed, in which the confidential business information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of this investigation in the report it sends to the USTR and the President. As requested by the USTR, the Commission will publish a public version of the report. However, in the public version, the Commission will not publish confidential business information in a manner that would reveal the operations of the firm supplying the information.

The public record for this investigation may be viewed on the Commission's electronic docket (EDIS) http://edis.usitc.gov. Hearing impaired individuals may obtain information on this matter by contacting the Commission's TDD terminal on 202-205-1810. Persons with mobility impairments who will need special assistance in gaining access to the Commission should contact the Office of the Secretary at 202-205-2000.

Issued: June 6, 2006.
By order of the Commission.
Marilyn R. Abbott,
Secretary to the Commission.

[FR Doc. E6-9029 Filed 6-8-06; 8:45 am]

BILLING CODE 7020-02-P